NUCLEAR REGULATORY COMMISSION

[Docket No. 72-27; NRC-2011-0115]

Pacific Gas and Electric Company; Humboldt Bay Independent Spent Fuel Storage Installation; Amendment to Materials License No. SNM-2514

AGENCY: Nuclear Regulatory Commission.

ACTION: License amendment application; issuance.

SUMMARY: The U.S. Nuclear Regulatory Commission (NRC) reviewed an application by Pacific Gas and Electric (PG&E) Company for amendment of Materials License No. SNM-2514 which authorizes PG&E to receive, possess, store, and transfer spent nuclear fuel and associated radioactive materials. The amendment would allow PG&E to store greater than Class C process waste at its Humboldt Bay (HB) independent spent fuel storage installation (ISFSI).

ADDRESSES: Please refer to Docket ID NRC-2011-0115 when contacting the NRC about the availability of information regarding this document. You may access publicly-available information related to this document using any of the following methods:

• Federal Rulemaking Web site: Go to http://www.regulations.gov and search for Docket ID NRC-2011-0115. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. The Humboldt Bay License Amendment Request No. 3 package is available electronically under ADAMS Accession No. ML12279A041.

• NRC's PDR: You may examine and purchase copies of public documents at the NRC's PDR, Room O1-F21, One White Flint North, 11555 Rockville Pike, Rockville, Maryland 20852.

FOR FURTHER INFORMATION CONTACT: Chris Allen, Office of Nuclear Material Safety and Safeguards, U.S. Nuclear Regulatory Commission, Washington, DC 20555-0001; telephone: 301-287-9225; email: William.Allen@nrc.gov.

SUPPLEMENTARY INFORMATION: By application dated September 8, 2010, as supplemented January 28, April 1, and September 9, 2011; June 19, June 25, and October 4, 2012; as well as January 16, March 7, and March 21, 2013, PG&E submitted to the NRC, in accordance with part 72 of Title 10 of the Code of Federal Register (10 CFR), a request to amend Materials License No. SNM-2514 for its HB ISFSI site located in Eureka, California. License No. SNM-2514 authorizes PG&E to receive, possess, store, and transfer spent nuclear fuel and associated radioactive materials resulting from the operation of the HB Power Plant in an ISFSI at the power plant site for a term of 20 years. Specifically, the amendment proposed modifying License Condition 7.B to add “process wastes” to the Chemical and Physical Form description of greater than Class C waste authorized to be received at the HB ISFSI.

The NRC issued a letter dated April 14, 2011, notifying PG&E that the application was acceptable for review. In accordance with 10 CFR 72.16, a Notice of Docketing was published in the Federal Register on May 27, 2011 (76 FR 30980). The Notice of Docketing included an opportunity to request a hearing and to petition for leave to intervene.

The NRC prepared a Safety Evaluation Report (SER) that documents its review and evaluation of the amendment request. Also in connection with this action, the NRC prepared an Environmental Assessment (EA) and a Finding of No Significant Impact (FONSI). The Notice of Availability of the EA and FONSI for the HB ISFSI was published in the Federal Register on September 16, 2013 (78 FR 56944).

Upon completing its review, the staff determined the request complies with the standards and requirements of the Atomic Energy Act of 1954, as amended (the Act), as well as the NRC's rules and regulations. As required by the Act and the NRC's rules and regulations in 10 CFR Chapter I, the staff made the appropriate findings which are contained in the SER (ADAMS Accession No. ML13196A475). The NRC approved and issued Amendment No. 3 to Materials License No. SNM-2514, held by PG&E for the receipt, possession, transfer, and storage of spent fuel and associated radioactive materials at the HB ISFSI. Pursuant to 10 CFR 72.46(d), the NRC is providing notice of the action taken. Amendment No. 3 was effective as of the date of issuance, September 17, 2013.

Dated at Rockville, Maryland, this 17th day of September, 2013.
For the Nuclear Regulatory Commission.
Michele Sampson,
Chief, Licensing Branch, Division of Spent Fuel Storage and Transportation, Office of Nuclear Material Safety and Safeguards.

[FR Doc. 2013-23316 Filed 9-24-13; 8:45 am]

BILLING CODE 7590-01-P